DEPARTMENT OF TRANSPORTATION

Federal Aviation Administration

Airport Property Release Notice; Southbridge Municipal Airport, Southbridge, MA

AGENCY: Federal Aviation Administration (FAA), DOT.

ACTION: Request for comments.

SUMMARY: The Federal Aviation Administration is considering a proposal to release approximately 30.29 acres of airport property for conservation land at the Southbridge Municipal Airport, Southbridge, MA. The acres to be released are currently not used for aeronautical purposes and are vacant wetlands. The released acres would be considered reimbursement for general funds the Town of Southbridge expended to provide the Airport with necessary services within the last 6 years. In accordance with section 47107(h) of Title 49 of the United States Code, the FAA invites public comment on this proposal.

DATES: Comments must be received on or before December 1, 2014.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE., Washington, DC 20590.

• Hand Delivery: Deliver to Mail address above between 9 a.m. and 5 p.m., Monday through Friday, except Federal holidays. Interested persons may inspect the request and supporting documents by contacting the FAA at the address listed under “FOR FURTHER INFORMATION CONTACT.”

FOR FURTHER INFORMATION CONTACT: Thomas Vick, Compliance and Land Use Specialist, New England Region Airports Division, 12 New England Executive Park, Burlington, MA 01803. Telephone: 781-238-7618; Fax 781-238-7608.

SUPPLEMENTARY INFORMATION: In accordance with the Wendell H. Ford Aviation Investment and Reform Act for the 21st Century (AIR 21), Public Law 106-181 (Apr. 5, 2000; 114 Stat. 61), this notice must be published in the Federal Register not less than 30 days before the Secretary may waive any condition imposed on a federally obligated airport by grant agreements. The FAA invites public comment on the request, under the provisions of AIR 21, to release land at the Southbridge Municipal Airport from the obligation to use that land solely for aeronautical purposes and to allow its use for environmental mitigation. All comments will be considered by the FAA to the extent practicable.

The Town of Southbridge has requested to release approximately 30.29 acres of airport land from federal obligations and to consider that land as reimbursement for $49,629.23 in general funds the Town of Southbridge expended to provide the Airport with services within the last 6 years. These acres are part of a larger 264-acre parcel currently depicted on the Airport Layout Plan. That larger parcel is identified as owned by the Town of Southbridge in the Worcester County Registry of Deeds, Book 2928, Page 89. The 30.29 acres are located on the west side of Commercial Drive and Barefoot Road and have 1369 feet of frontage on Commercial Drive and Barefoot Road, but also encompass a large area of wetlands based on MA Department of Environmental Protection Wetlands maps.

The Airport also completed a Real Estate Appraisal Report for the parcel. The appraisal was conducted in accordance with the Uniform Standards of Professional Appraisal Practice (USPAP). The appraisal concludes that the Southbridge Municipal Airport will receive value for the land in terms of liquidating its debt to the Town and, in addition, value in terms of having the land preserved as conservation land without development in perpetuity.

Issued in Burlington, Massachusetts, October 23, 2014.
Mary T. Walsh,
Manager, New England Airports Division.

[FR Doc. 2014-25885 Filed 10-30-14; 8:45 am]

BILLING CODE 4910-13-P